DEPARTMENT OF HOMELAND SECURITY

Federal Emergency Management Agency

[Docket ID: FEMA-2013-0056; OMB No. 1660-0072]

Agency Information Collection Activities: Proposed Collection; Comment Request; Mitigation Grant Program/e-Grants.

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning this collection that is used by: (1) Applicants and sub-applicants to apply for and report on e-Grant awards; and (2) the Federal Emergency Management Agency to evaluate, award, and monitor expenditures and program/project performance for Flood Mitigation Assistance and Pre-Disaster Mitigation program activities.

DATES: Comments must be submitted on or before March 24, 2014.

ADDRESSES: To avoid duplicate submissions to the docket, please use only one of the following means to submit comments:

(1) Online. Submit comments at http://www.regulations.gov under Docket ID FEMA-2013-0056. Follow the instructions for submitting comments.

(2) Mail. Submit written comments to Regulatory Affairs Division, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Cecelia Rosenberg, Chief, Grants Policy Branch, Mitigation Division, Federal Insurance and Mitigation Administration, DHS/FEMA, (202) 646-3321 for additional information. You may contact the Records Management Division for copies of the proposed collection of information at facsimile number (202) 646-3347 or email address: FEMA-Information-Collections-Management@dhs.gov.

SUPPLEMENTARY INFORMATION: This collection of information is necessary to implement grants for the Flood Mitigation Assistance (FMA) program and the Pre-Disaster Mitigation (PDM) program. The FMA program is authorized by section 1366 of the National Flood Insurance Act of 1968, 42 U.S.C. 4104c, as amended by the National Flood Insurance Reform Act of 2004 (NFIA), Public Law 108-264. The FMA program, under 44 CFR part 79, is designed to award grants so that measures are taken to reduce or eliminate the long-term risk of flood damage to buildings, manufactured homes, and other structures insurable under the National Flood Insurance Program (NFIP). In addition, the FMA program now funds projects previously funded under the Repetitive Flood Claims (RFC) and Severe Repetitive Loss (SRL) programs. The Biggert-Waters Flood Insurance Reform Act of 2012, Public Law 112-141 (42 U.S.C. 4001, et seq.) eliminated the RFC and SRL programs, by combining those programs under the FMA program. Projects that were eligible for funding under the old RFC and SRL programs, and that meet criteria consistent with legislative changes made in the Biggert-Waters Act, are now eligible for increased Federal cost share under the FMA program. Under the FMA there will be grant awards for actions that reduce flood damages to individual properties for which one or more claim payments for losses have been made. Also, grant awards will be available for the goal of reducing flood damages to residential properties that have experienced severe repetitive losses under flood insurance coverage.

The PDM program is authorized by Section 203 of the Robert T. Stafford Disaster Relief and Emergency Assistance Act (the Act), 42 U.S.C. 5133, as amended. The PDM program provides grants for cost-effective mitigation actions prior to a disaster event to reduce overall risks to the population and structures, while also reducing reliance on funding from actual disaster declarations.

In accordance with OMB Circular A-102, FEMA requires that all parties interested in receiving FEMA mitigation grants submit an application package for grant assistance. The e-Grants system was developed and revamped to meet the intent of the e-Government initiative, authorized by Public Law 106-107. This initiative requires that all government agencies both streamline grant application processes and provide for the means to electronically create, review, and submit a grant application via the Internet.

Collection of Information

Title: Mitigation Grant Program/e-Grants.

Type of Information Collection: Extension, without change, of a currently approved information collection.

OMB Number: 1660-0072.

FEMA Forms: No Forms.

Abstract: The FEMA pre-disaster mitigation grant programs—Flood Mitigation Assistance, and Pre-Disaster Mitigation—both utilize an automated grant application and management system known as e-Grants to apply for these grants. These programs provide funding to allow for the reduction or elimination of the risks to life and property from hazards. The e-Grants system also provides the mechanism to provide quarterly reports of the financial status of the project and the final closeout report.

Affected Public: State, local and Tribal Governments.

Number of Respondents: 56

Number of Responses: 5,264

Estimated Total Annual Burden Hours: 43,848.

Estimated Cost: There are no operation and maintenance, or capital and start-up costs associated with this collection of information.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 8, 2014.
Charlene D. Myrthil,
Director, Records Management Division, Mission Support Bureau, Federal Emergency Management Agency, Department of Homeland Security.

[FR Doc. 2014-01198 Filed 1-21-14; 8:45 am]

BILLING CODE 9110-13-P